DEPARTMENT OF COMMERCE

International Trade Administration

[A-570-847]

Persulfates From the People's Republic of China: Notice of Rescission of Antidumping Duty Administrative Review

AGENCY: Import Administration, International Trade Administration, Department of Commerce.

EFFECTIVE DATE: January 16, 2008.

FOR FURTHER INFORMATION CONTACT: Marin Weaver or Blanche Ziv, AD/CVD Operations, Office 8, Import Administration, Room 1870, International Trade Administration, U.S. Department of Commerce, 14th Street and Constitution Avenue, NW., Washington, DC 20230; telephone: (202) 482-2336 and (202) 482-4207, respectively.

Background

On July 3, 2007, the Department of Commerce (“the Department”) published a notice of opportunity to request an administrative review of the antidumping duty order on persulfates from the People's Republic of China (“PRC”). See Antidumping or Countervailing Duty Order, Finding, or Suspended Investigation: Opportunity to Request Administrative Review, 72 FR 36420 (July 3, 2007). On July 31, 2007, FMC Corporation (“FMC”) requested that the Department conduct an administrative review of Shanghai AJ Import and Export Corporation (“Shanghai AJ”). No other parties requested a review. The Department published a notice of the initiation of the antidumping duty administrative review of persulfates from the PRC for the period July 1, 2006, through June 30, 2007. See Initiation of Antidumping and Countervailing Duty Administrative Reviews and Request for Revocation in Part, 72 FR 48613 (August 24, 2007). On November 21, 2007 the Department issued a memorandum to the file extending the deadline for FMC to withdraw its request for a review of Shanghai AJ until December 17, 2007. On December 17, 2007, FMC submitted a letter withdrawing its request for review of Shanghai AJ.

Rescission of Review

Because FMC, the sole party which had requested a review, submitted a timely letter withdrawing its request for review of Shanghai AJ., pursuant to 19 CFR 351.213(d)(1) we are rescinding this administrative review of persulfates from the PRC.

Assessment

The Department will instruct U.S.Customs and Border Protection (“CBP”) to assess antidumping duties on all appropriate entries. Antidumping duties shall be assessed at rates equal to the cash deposit of estimated antidumping duties required at the time of entry, or withdrawal from warehouse, for consumption, in accordance with 19 CFR 351.212(c)(1)(i). The Department will issue assessment instructions directly to CBP 15 days after publication of this notice.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: January 10, 2008.
Stephen J. Claeys,
Deputy Assistant Secretary for Import Administration.

[FR Doc. E8-661 Filed 1-15-08; 8:45 am]

BILLING CODE 3510-DS-P